DEPARTMENT OF TRANSPORTATION

Federal Aviation Administration

Petition for Exemption; Summary of Petition Received; AMAC Aerospace Switzerland AG

AGENCY: Federal Aviation Administration (FAA), DOT.

ACTION: Notice of petition for exemption received; reopening of comment period.

SUMMARY: This notice contains a summary of a petition seeking relief from specified requirements of Federal Aviation Regulations. On February 14, 2023, the FAA published in the Federal Register a notice of petition for exemption received from AMAC Aerospace Switzerland AG, and requested public comments. The Association of Flight Attendants and the Air Line Pilots Association, International requested additional time to comment on the exemption proposal. The purpose of this notice is to reopen the comment period to improve the public's awareness of, and participation in, the FAA's exemption process. Neither publication of this notice nor the inclusion or omission of information in the summary is intended to affect the legal status of the petition or its final disposition.

DATES: Comments on this petition must identify the petition docket number and must be received on or before April 19, 2023.

ADDRESSES: Send comments identified by docket number FAA-2022-1802 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-612, Federal Aviation Administration, 2200 South 216th Street, phone and fax 206-231-3187, email deana.stedman@faa.gov.

This notice is published pursuant to 14 CFR 11.85.

Issued in Washington, DC, on March 30, 2023.
James David Foltz,
Acting Manager, Strategic Policy Management, Policy and Innovation Division, Aircraft Certification Service.

Petition for Exemption

Docket No.: FAA-2022-1802.

Petitioner: AMAC Aerospace Switzerland AG.

Section(s) of 14 CFR Affected: §§ 25.562(a), 25.785(b), 25.785(h)(2), 25.785(j), 25.791(a), 25.807(e), 25.811(d)(1), 25.812(b)(1)(i) and (ii), 25.813(c)(2)(ii), and 25.858.

Description of Relief Sought: Petitioner is seeking relief from the listed design requirements in order to support a supplemental type certificate (STC) application for a Boeing Model 737-8 airplane. The proposed STC is for the installation of an executive-style interior with multiple rooms.

[FR Doc. 2023-07025 Filed 4-4-23; 8:45 am]

BILLING CODE 4910-13-P